DEPARTMENT OF THE INTERIOR

National Park Service

[NPS-MWR-WICA-18608; PS.SMWLA0060.00.1]

Minor Boundary Revision at Wind Cave National Park

AGENCY: National Park Service, Interior.

ACTION: Notification of Boundary Revision.

SUMMARY: The boundary of Wind Cave National Park is modified to include 7.16 acres of land located in Custer County, South Dakota, immediately adjoining the boundary of Wind Cave National Park. Subsequent to the proposed boundary revision, the National Park Service (NPS) will purchase the land from a willing seller.

DATES: The effective date of this boundary revision is July 31, 2015.

ADDRESSES: The map depicting this boundary revision is available for inspection at the following locations: National Park Service, Land Resources Program Center, Midwest Region, 601 Riverfront Drive, Omaha, NE 68102, and National Park Service, Department of the Interior, 1849 C Street NW., Washington, DC 20240.

FOR FURTHER INFORMATION CONTACT: Chief Realty Officer Daniel L. Betts, National Park Service, Land Resources Program Center, Midwest Region, 601 Riverfront Drive, Omaha, NE 68102, telephone (402) 661-1780.

SUPPLEMENTARY INFORMATION: Notice is hereby given that, pursuant to 54 U.S.C. 100506(c), the boundary of Wind Cave National Park is modified to include an adjoining tract containing 7.16 acres of land. The boundary revision is depicted on Map No. 108/127,898 dated March 2015.

54 U.S.C. 100506(c) provides that, after notifying the House Committee on Natural Resources and the Senate Committee on Energy and Natural Resources, the Secretary of the Interior is authorized to make this boundary revision upon publication of notice in the Federal Register. The Committees have been notified of this boundary revision. Subsequent to the proposed boundary revision, the NPS will use available funds to acquire the tract by purchase from the willing seller. The inclusion of this tract in the boundary and subsequent acquisition will enable the NPS to prevent adverse development at the southern entrance to the park.

Dated: June 11, 2015.
Cameron H. Sholly,
Regional Director, Midwest Region.

[FR Doc. 2015-18800 Filed 7-30-15; 8:45 am]

BILLING CODE 4310-MA-P